DEPARTMENT OF HEALTH AND HUMAN SERVICES

Food and Drug Administration

[Docket No. FDA-2010-N-0001]

General and Plastic Surgery Devices Panel of the Medical Devices Advisory Committee; Notice of Postponement of Meeting

AGENCY: Food and Drug Administration, HHS.

ACTION: Notice.

SUMMARY: The meeting of the General and Plastic Surgery Devices Panel of the Medical Devices Advisory Committee scheduled for August 26, 2010, is postponed. The meeting was announced in the Federal Register of June 24, 2010 (75 FR 36102). The meeting is postponed so that FDA can review and consider additional information that was submitted. A future meeting date will be announced in the Federal Register at a later date.

FOR FURTHER INFORMATION CONTACT: Margaret McCabe-Janicki, Center for Devices and Radiological Health, Food and Drug Administration, 10903 New Hampshire Ave., rm. 1535, Silver Spring, MD 20993-0002, 301-796-7029 or FDA Advisory Committee Information Line, 1-800-741-8138 (301-443-0572 in the Washington, DC area), code 3014512519. Please call the Information Line for up-to-date information on this meeting.

Dated: August 3, 2010.
Jill Hartzler Warner,
Acting Associate Commissioner for Special Medical Programs.

[FR Doc. 2010-19383 Filed 8-5-10; 8:45 am]

BILLING CODE 4160-01-S